DEPARTMENT OF EDUCATION

[Docket ID ED-2022-FSA-0056]

Privacy Act of 1974; System of Records

AGENCY: Federal Student Aid, U.S. Department of Education.

ACTION: Notice of a modified system of records.

SUMMARY: In accordance with the Privacy Act of 1974, as amended (Privacy Act), the U.S. Department of Education (Department) publishes this notice of a modified system of records entitled “Common Services for Borrowers (CSB)” (18-11-16). The information contained in this system is maintained for various purposes relating to aid applicants and recipients, cosigners, and endorsers. These include: determining program benefit eligibility; originating, disbursing, servicing, collecting, assigning, adjusting, transferring, referring, discharge, and furnishing of credit information for title IV, Higher Education Act of 1965, as amended (HEA), obligations; enforcing conditions or terms of title IV, HEA obligations; and ensuring program and contractual requirements are met by education and financial institutions, guaranty agencies, and Department contractors including Federal Loan Servicers, Not-for-Profit (NFP) Federal Loan Servicers, the Federal Perkins Loan Servicer, and Private Collection Agencies (PCAs).

DATES: Submit your comments on this modified system of records notice on or before October 13, 2022. This modified system of records notice will become applicable upon publication in the Federal Register on September 13, 2022, except for the new and modified routine uses 1(a), (d), (e), (f), (g), (h), (i), (k), (l), (m), (n), (o), (q), (5)(b), (11), (12), (13), (14), (15), (16), (17) and (18) that are outlined in the section entitled “ROUTINE USES OF RECORDS MAINTAINED IN THE SYSTEM, INCLUDING CATEGORIES OF USERS AND PURPOSES OF SUCH USES,” which will be effective on October 13, 2022, unless they need to be changed as a result of public comment. The Department will publish any changes to the modified system of records notice resulting from public comment.

ADDRESSES: Comments must be submitted via the Federal eRulemaking Portal at regulations.gov. However, if you require an accommodation or cannot otherwise submit your comments via regulations.gov, please contact the program contact person listed under FOR FURTHER INFORMATION CONTACT. The Department will not accept comments submitted by fax or by email, or comments submitted after the comment period closes. To ensure that the Department does not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

Privacy Note: The Department's policy is to make all comments received from members of the public available for public viewing in their entirety on the Federal eRulemaking Portal at www.regulations.gov. Therefore, commenters should be careful to include in their comments only information that they wish to make publicly available.

Assistance to Individuals With Disabilities in Reviewing the Rulemaking Record: On request, we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Mark LaVia, Executive Director, Servicing, Student Experience and Aid Delivery, Federal Student Aid, U.S. Department of Education, 1300 Market St., 5th floor, Philadelphia, PA 19107. Email: Mark.LaVia@ed.gov. Telephone: 202-805-4376.

If you are deaf, hard of hearing, or have a speech disability and wish to access telecommunications relay services, please dial 7-1-1.

SUPPLEMENTARY INFORMATION:

Introduction

The “Common Services for Borrowers (18-11-16)” system of records notice was most recently amended and published in full on September 2, 2016 (81 FR 60683).

The Department is modifying the section entitled “SYSTEM LOCATION” as follows:

(i) For the Department, adding the System Manager located in Philadelphia, PA; deleting the Washington, DC, location; and adding the Department's regional offices in San Francisco, CA, Chicago, IL, and Atlanta, GA, which were previously set forth in the now deleted Appendix II;

(ii) For Maximus Federal Services, Inc., deleting the Manassas, VA, location; adding the Frederick, MD, Greenville, TX, and Jacksonville, FL, locations which were previously set forth in Appendix II; adding Seattle, WA, Upper Marlboro, MD, and Brownsville, TX, locations; and deleting locations previously set forth in Appendix II at Reston, VA (Department contractor—Help Desk Application), Westminster, CO (Department contractor—Debt Management Collection System (DMCS) Disaster Recovery Site), Utica, NY (Department contractor—DMCS Business and Financial Operations Management), Waldorf, MD (Department subcontractor—Fulfillment Services), and Coralville, IA and Jacksonville, FL (Department contractor—Call Centers);

(iii) For Nelnet Servicing, LLC, adding locations at Sioux Falls, SD, North Mankato, MN, Grove City, OH, West Sacramento, CA, Lincoln, NE, Omaha, NE, and North Monroe, NC; and deleting the location previously set forth at Jacksonville, FL;

(iv) For Great Lakes Educational Loan Services, Inc. (GLCS) adding Bellevue, NE, Sioux Falls, SD, Eau Claire, WI, Eagan, MN, Plano, TX, Boscobel, WI, and Stevens Point, WI locations; and updating the address of the Madison, WI, location;

(v) Adding Aidvantage, with locations in Chandler, AZ, Omaha, NE, West Sacramento, CA, Monroe, NC, Wilkes-Barre, PA, Fishers, IN, and Muncie, IN;

(vi) For Pennsylvania Higher Education Assistance Agency (PHEAA), adding locations at Boyers, PA, Jacksonville, FL, Brownsville, TX, Tampa, FL, San Angelo, TX, and Sterling Forest, NY; and deleting the duplicative reference to the Harrisburg, PA, location, which was previously set forth in Appendix II;

(vii) For the Missouri Higher Education Loan Authority (MOHELA), adding the Chesterfield, MO, and Sterling Forest, NY, locations, which were previously set forth in Appendix II; adding, and updating the address of, the Columbia, MO, location, which was previously set forth in Appendix II; adding Boyers, PA, and Washington DC, locations; and deleting the location at Harrisburg, PA, which was previously set forth in Appendix II;

(viii) For the Oklahoma Student Loan Authority (NFPOSLA), adding the Scottsdale, AZ, Bellevue, NE, and Sioux Falls, SD, locations, which were previously set forth in Appendix II; adding, and updating the address of, one of the Oklahoma City, OK, locations (namely, 525 Central Park Drive, instead of 11300 Partnership Drive), which was previously set forth in Appendix II; and deleting the locations at Stafford, TX, Omaha, NE, and one of the Oklahoma City, OK, locations (namely, 11300 Partnership Drive), which were previously set forth in Appendix II;

(ix) Adding the North Texas Higher Education Servicing Corporation (NFPHESC—EdFinancial), with locations in North Bellevue, NE, Sioux Falls, SD, Stafford, TX, and Knoxville, TN;

(x) For Educational Computer Systems, Inc (ECSI), deleting the reference to Coraopolis, PA; and adding Atlanta, GA, Warrendale, PA, Moon Township, PA, and Winston-Salem, NC, locations;

(xi) Deleting Navient Corporation in Fishers, IN;

(xii) Adding Action Financial Services located in Medford, OR;

(xiii) Adding Bass & Associates, P.C. located in Tucson, AZ;

(xiv) Adding Central Research, Inc. (CRI) located in Lowell, AR;

(xv) For Coast Professional, Inc., adding a location in Geneseo, NY, and deleting the location in West Monroe, LA, which was previously set forth in Appendix II;

(xvi) Adding Credit Adjustments, Inc. (CAI) located in Defiance, OH;

(xvii) Adding F.H. Cann & Associates, Inc. located in North Andover, MA;

(xviii) For Immediate Credit Recovery (ICR) adding a location in Poughkeepsie, NY; and deleting the location in Wappingers Falls, NY, which was previously set forth in Appendix II;

(xix) Adding National Credit Services located in Bothell, WA;

(xx) For National Recoveries, Inc., adding the location in Ham Lake, MN, which was previously set forth in Appendix II;

(xxi) Adding Professional Bureau of Collections of Maryland, Inc. located in Greenwood Village, CO;

(xxii) Adding Reliant Capital Solutions located in Gahanna, OH;

(xxiii) Deleting the business description of the Department's work with Federal Loan Servicers because it is not required and is covered under the purposes of the system of records; and

(xxiv) Deleting the discussion of Appendix II, which is being deleted, in its entirety, from this modified system of records notice.

The Department is modifying the section entitled “SYSTEM MANAGER(S)” by updating the System Manager's title and address.

The Department is modifying the section entitled “AUTHORITY FOR MAINTENANCE OF THE SYSTEM” to add “the Higher Education Relief Opportunities for Students Act of 2003 (20 U.S.C. 1098bb) (including any waivers or modifications that the Secretary of Education deems necessary to make to any statutory or regulatory provision applicable to the student financial assistance programs under title IV of the HEA to achieve specific purposes listed in the section in connection with a war, other military operation, or a national emergency).”

The Department is modifying the section entitled “PURPOSE(S) OF THE SYSTEM” as follows:

(i) The purpose of the system has been modified to include a note detailing that “[d]ifferent parts of the HEA use the terms ‘discharge', ‘cancellation' or ‘forgiveness' to describe when a borrower's loan amount is reduced in whole or in part by the Department. To reduce complexity, this system of records notice uses the term ‘discharge' to include all three terms (‘discharge,' ‘cancellation,' and ‘forgiveness'), including but not limited to discharges of student loans made pursuant to specific benefit programs. At times, this system of records notice may refer by name to a specific benefit program, such as the ‘Public Service Loan Forgiveness' program; such specific references are not intended to exclude any such program benefits from more general references to loan discharges;”

(ii) Purpose (4) was modified to delete and replace “loan or grant” with “title IV, HEA obligation;”

(iii) Purpose (5) was modified to delete and replace “make” with “originate” and to add “disburse,” “furnish credit information for,”and “discharge a title IV, HEA obligation” in order to more accurately reflect the appropriate terminology;

(iv) Purpose (6) was modified to delete that a purpose of the system is “to counsel a debtor in repayment efforts” and to instead clarify that a purpose of the system is to provide customers with information to help them make informed decisions on repayment options, including forbearance, deferment, and recurring debit options, based on their unique situations;

(v) Purpose (7) was modified to add verifying compliance with contract requirements;

(vi) Purpose (8) was modified to remove the word “borrower” and to delete and replace “a loan or grant” with “a title IV, HEA obligation” in order to more accurately reflect the appropriate terminology;

(vii) Purpose (9) was modified to indicate that a purpose of the system is to litigate a title IV, HEA obligation, or to prepare for, provide support services for, or audit the results of litigation on a title IV, HEA obligation;

(viii) Purpose (11) was modified to specify that a purpose of the system is to verify that, in addition to program requirements, Federal, State, local, or Tribal statutory and regulatory requirements are also met by the listed entities (i.e., educational and financial institutions, guaranty agencies, Department contractors including Federal Loan Servicers, NFP Federal Loan Services the Federal Perkins Loan Servicer, and PCAs);

(ix) Purpose (12) was modified to delete and replace “debt” with “title IV, HEA obligation;”

(x) Purpose (13) was modified to delete and replace “debt” with “title IV, HEA obligation” and to delete and replace “credit-reporting agency” with “consumer reporting agency;”

(xi) Purpose (14) was modified to specify that a purpose of the CSB system is to investigate, respond to, or resolve complaints submitted to the Department or to other Federal, State, local, or Tribal agencies regarding an aid applicant's or recipient's title IV, HEA program eligibility, the disbursement or servicing of a title IV, HEA obligation, or the practices or processes of the Department and/or the Department's contractors; and to delete “update information, or correct errors contained in Department records” because this was moved to new purpose (19);

(xii) Purpose (15) was modified to reflect credit balances are refunded by the U.S. Department of the Treasury(Treasury) to the individual or loan holder;

(xiii) Purpose (16) was modified to delete and replace “loans and grants made under title IV of the HEA” with “title IV, HEA obligations” and to add “NFP Federal Loan Servicers;”

(xiv) New purpose (18) was added to support research, analysis, and development of educational policies in relation to title IV, HEA student aid programs;

(xv) New purpose (19) was added to support Federal budget analysts in the Department, the Office of Management and Budget (OMB), and the Congressional Budget Office (CBO) in the development of budget needs and forecasts;

(xvi) New purpose (20) was added to help governmental entities at the Federal, State, Tribal, and local levels exercise their supervisory and administrative powers (including, but not limited to licensure, examination, discipline, regulation, or oversight of educational institutions, Department contractors, guaranty agencies, eligible lenders, and third-party servicers); to investigate, respond to, or resolve complaints regarding the practices or processes of the Department and/or the Department's contractors; and to update information or correct errors contained in Department records;

(xvii) New purpose (21) was added to ensure that only authorized users access aid applicants' or recipients' records, to maintain a history of each instance in which the aid applicant's or recipient's records are viewed or updated, and to assist the Department in responding to a suspected or confirmed breach of this system or in preventing, minimizing, or remedying harm when the Department suspects or confirms that this system has been breached or when the Department determines that information from this system of records is reasonably necessary to assist another agency or entity in responding to a suspected or confirmed breach or in preventing, minimizing, or remedying the risk of harm resulting from a suspected or confirmed breach;

(xviii) New purpose (22) was added to support the Department in detecting, preventing, mitigating, and recouping improper payments in title IV, HEA programs; and

(xix) New purpose (23) was added to allow the Department to conduct testing, analysis, or take other administrative actions needed to prepare for or execute programs under title IV of the HEA.

The Department is modifying the section entitled “CATEGORIES OF INDIVIDUALS COVERED BY THE SYSTEM” as follows:

(i) The introductory paragraph was updated to delete and replace the phrase “are otherwise obligated to repay a loan or grant made under title IV of the Higher Education Act of 1965, as amended (HEA)” with “otherwise owe a title IV, HEA obligation,” and to delete and replace “held and collected by the Department” with “held, originated, serviced, disbursed, adjusted, collected, or discharged by the Department;”

(ii) Category (12), the Civil Legal Assistance Attorney Student Loan Repayment Program (CLAARP), was deleted because CLAARP is a repayment benefit and is not being funded;

(iii) Category (13), the Public Service Loan Forgiveness (PSLF) Program, was deleted because PSLF is a repayment benefit similar to other discharge programs and is therefore already covered in this notice; and

(iv) The final paragraph was modified to delete and replace “or as household members” with “co-signers, endorsers, or a spouse,” to delete and replace “Federal title IV, HEA loan or grant” with “Federal title IV, HEA program funds,” and to delete and replace “the grant or loan” with “a title IV, HEA obligation.”

The Department is modifying the section entitled “CATEGORIES OF RECORDS IN THE SYSTEM” as follows:

(i) The introductory paragraph was updated to read “The Information Technology (IT) systems of the Department used to carry out activities with regard to title IV, HEA obligations held, originated, serviced, disbursed, collected, or discharged by the Department: DMCS, IT systems operated by the Federal Loan Servicers and NFP Federal Loan Servicers to accomplish the purpose(s) of this system of records, IT systems operated by the Federal Perkins Loan Program Servicer to accomplish the purpose(s) of this system of records, and IT systems operated by the PCAs to accomplish the purpose(s) of this system of records;” to clarify the system of records also includes paper records received from guaranty agencies for appeals by title IV, HEA loan borrowers of guaranty agency decisions; to update “making and servicing loans, including collecting or otherwise resolving obligations owed by an individual under title IV of the HEA” with “title IV, HEA obligations held, originated, serviced, disbursed, collected, discharged, by the Department;” to remove the CLAARP system and PSLF system from the list of systems covered by this system of records notice because these are repayment benefits, not systems; to add IT systems operated by Not-For-Profit (NFP) Federal Loan Servicers to the list of systems covered by this modified system of records notice; and to remove the Total and Permanent Disability (TPD) system from the list of systems covered by this system of records notice because this is a discharge benefit;

(ii) The second paragraph was updated to delete and replace “individuals” with “aid applicant or recipient” and to delete and replace “obligated on the debt” with “indebted on a title IV, HEA obligation;”

(iii) The second paragraph was updated to include “Borrower Defense (including but not limited to, case decisions, principal and interest discharged, amount refunded, and borrower defense notifications)” as an example of records related to discharge of title IV, HEA obligation;

(iv) The second paragraph was also updated to include the maintenance of records related to PSLF (including, but not limited to, employment records) and Borrower Defense (including but not limited to, case decisions, principal and interest discharged, amount refunded, and borrower defense notifications) as they relate to discharge.in the listing of grounds for discharge;

(v) Finally, the second paragraph was updated to include loan discharge eligibility information and associated discharge eligibility consent information submitted by the recipient;

(vi) The third paragraph was modified to delete and replace “for all debts” with “for all title IV, HEA obligations” and to delete and replace “individuals obligated on the debt” with “the individual who owes a title IV, HEA obligation;” and

(vii) A new fourth paragraph was added to include information obtained from matching programs or other information exchanges with other Federal and State agencies, and other entities, to assist in identifying individuals who may be eligible for benefits related to their title IV, HEA obligations, including, but not limited to, TPD discharges, loan deferments, interest rate reductions, PSLF, and other Federal and State loan repayment or discharge benefits or for the purpose of recouping payments on delinquent title IV, HEA obligations under title IV, HEA programs.

The Department is modifying the section entitled “RECORD SOURCE CATEGORIES” to include cosigners, endorsers, current or prior FFEL loan holders or servicers and “NFP Federal Loan Servicers” and Tribal to the list of individuals and entities from whom or from which the Department obtains information; and to add a statement that information in this system may be obtained from other persons or entities from whom or from which data is obtained under the listed routine uses.

The Department is modifying the section entitled “ROUTINE USES OF RECORDS MAINTAINED IN THE SYSTEM, INCLUDING CATEGORIES OF USERS AND PURPOSES OF SUCH USES” as follows:

(i) The first paragraph was modified to delete the discussion of “return information” that the Department obtained from the Internal Revenue Service because the Department no longer obtains this information and to delete the reference to Appendix I, which is separately being deleted, in its entirety, from this modified system of records notice;

(ii) Routine use (1)(a) was modified to delete and replace “the loan or grant” with “title IV, HEA program funds;” to add Tribal agencies and their authorized representatives to the list of agencies to which disclosures can be made; and to delete and replace “repay the debt” with “repay the title IV, HEA obligation;”

(iii) Routine use (1)(d) was modified to delete and replace “the loan or grant” with “a title IV, HEA obligation,” and to permit disclosures to be made to the individual whom the records identify as the party obligated to repay the title IV, HEA obligation for the purpose of enforcing the conditions or terms of a title IV, HEA obligation;

(iv) Routine use (1)(e) was modified to delete and replace “making” with “originating, disbursing” to better clarify the process and responsibilities; to delete and replace “a loan or collecting a grant obligation” with “title IV, HEA obligations;” to delete and replace the references to “the debt” with “the title IV, HEA obligation;” to delete and replace “make” with “originated” to better clarify the process of guaranty agencies, educational institutions, or financial institutions; and to add disbursing, furnishing of credit information, and discharging the title IV, HEA obligation to the list of purposes for which the Department may disclose records pursuant to the routine use;

(v) Routine use (1)(f) was modified to delete and replace “[t]o counsel a debtor in repayment efforts” with “[t]o provide customers with information to help them make informed decisions on repayment options, including deferment, forbearance, and recurring auto debit, based on their unique situations” to clarify the purpose of disclosures under the routine use;

(vi) Routine use (1)(g) was modified to add disclosures to verify compliance with contractual requirements, to delete and replace verifying compliance with program regulations with verifying compliance with Federal, State, local, or Tribal statutory, regulatory, or program requirements, and to add third-party servicers and their authorized representatives and Tribal agencies and their authorized representatives to the list of entities and individuals to which or to whom disclosures may be made under this routine use;

(vii) Routine use (1)(h) was modified to delete and replace “an individual obligated to repay a loan or grant” with “an individual who owes a title IV, HEA obligation;”

(viii) Routine use (1)(i) was modified to permit disclosures to FFEL loan holders and servicers, Department contractors including but not limited to, Federal Loan Servicers, NFP Federal Loan Servicers, the Federal Perkins Servicer, and PCAs, to delete and replace “debt” with “title IV, HEA obligation;” and to add Tribal agencies and their representatives to the list of entities to which or to whom disclosures may be made under this routine use;

(ix) Routine use (1)(k) was modified to add Tribal agencies and their authorized representatives, and NFP Federal Loan Servicers to the list of entities to which disclosures may be made to verify that HEA program requirements are met, and to provide greater clarity by moving the placement of accrediting agencies in the listing of entities to which disclosures may be made to verify that HEA program requirements are met;

(x) Routine use (1)(l) was modified to delete and replace “debt” with “title IV, HEA obligation;”

(xi) Routine use (1)(m) was modified to delete and replace “debt” with “title IV, HEA obligation” and to delete and replace “credit reporting agency” with “consumer reporting agency;”

(xii) Routine use (1)(n) was modified to permit the Department to make disclosures to investigate, respond to, and resolve complaints submitted to the Department or to other Federal, State, local, or Tribal agencies regarding an aid applicant's or recipient's title IV, HEA program eligibility, the disbursement or servicing of a title IV, HEA obligation, or the practices or processes of the Department and/or the Department's contractors, and to add Tribal agencies and their authorized representatives to the list of agencies to which disclosures can be made. Routine use (1)(n) was also modified to delete and replace “credit reporting agency” with “consumer reporting agency;”

(xiii) Routine use (1)(o) was modified to clarify that the Department provides an individual's credit balance information to Treasury for distribution;

(xiv) Routine use (1) (p) was modified to delete and replace “loans and grants made under title IV of the HEA” with “title IV, HEA obligations;” and to add NFP Federal Loan Servicers;

(xv) Newly renumbered routine use (1)(q) was modified to read: “To help Federal, State, Tribal, and local governmental entities exercise their supervisory and administrative powers (including, but not limited to, licensure, examination, discipline, regulation, or oversight of educational institutions, Department contractors, guaranty agencies, eligible lenders, and third-party servicers) or to investigate, respond to, or resolve complaints submitted regarding the practices or processes of the Department and/or the Department's contractors, the Department may disclose records to governmental entities at the Federal, State, Tribal, and local levels. These records may include all aspects of records relating to title IV, HEA obligations to permit these governmental entities to verify compliance with debt collection, consumer protection, financial, and other applicable statutory, regulatory, or local requirements. Before making a disclosure to these Federal, State, local, or Tribal governmental entities, the Department will require them to maintain safeguards consistent with the Privacy Act to protect the security and confidentiality of the disclosed records;”

(xvi) Routine use (3) was deleted;

(xvii) Routine use (5)(b) was updated to add public agencies' agents and contractors and Department contractors to, and remove foreign agencies from, the entities to which the Department may disclose records from this system in connection with certain employment, benefit, and contracting matters;

(xviii) Newly renumbered routine use (11) was modified to include the requirement that the researcher must “agree to establish and maintain safeguards to protect the security and confidentiality of the disclosed records” as part of the disclosure of the records from this system of records;

(xix) Newly renumbered routine use (12) was updated to add that a Congressional Member's written request for a record must be made not only at the written request of, but also on behalf of, an individual constituent whose records are being disclosed; and to delete the phrase “whose records are being disclosed;”

(xx) Newly renumbered routine use (13) was modified to include disclosures to the Congressional Budget Office (CBO) and to read: “The Department may disclose records to OMB or the CBO as necessary to fulfill CRA requirements in accordance with 2 U.S.C. 661b;”

(xxi) Newly renumbered routine use (14) was modified to delete and replace the reference in item (a) to “the Department suspects or has confirmed that the security or confidentiality of information in a system covered by this system of records notice has been compromised” with “the Department suspects or has confirmed that there has been a breach of the system of records;” to delete and replace the reference in item (b) to “compromise” with “breach” and the reference in item (b) to “economic or property interests, identity theft or fraud, or harm to the security or integrity of this system or other system or programs (whether maintained by the Department or another agency or entity) that rely upon the compromised information” with “individuals, the Department (including its information systems, programs, and operations), the Federal government, or national security;” and to delete and replace the reference in item (c) to “compromise” with “breach;”

(xxii) New routine use (15) was added to allow the Department to disclose records from this system to another Federal agency or Federal entity when the Department determines that information from this system of records is reasonably necessary to assist the recipient agency or entity in responding to a suspected or confirmed breach, or preventing, minimizing, or remedying the risk of harm to individuals, the recipient agency or entity (including its information systems, programs, and operations), the Federal Government, or national security, resulting from a suspected or confirmed breach;

(xxiii) Routine use (16) was modified to delete the word “computer” before the term “matching programs,” and to delete the reference to Appendix I, which is being separately deleted, in its entirety, from this modified system of records notice;

(xxiv) Routine use (17) was modified to delete the last sentence stating “disclosure may be made to conduct computerized comparisons for this purpose;” and

(xxv) New routine use (18) was added to allow the Department to disclose records from this system to the National Archives and Records Administration (NARA) for the purpose of records management inspections conducted under authority of 44 U.S.C. 2904 and 2906.

The Department is modifying the section entitled “POLICIES AND PRACTICES FOR RETENTION AND DISPOSAL OF RECORDS” to indicate that records are retained and disposed of in accordance with ED Records Schedule 075: FSA Loan Servicing, Consolidation, and Collections Records (N1-441-09-016) (ED 075); the Department has proposed amendments to ED 075 for NARA's consideration; and the Department will continue to preserve all records covered by ED 075 until the amendments are approved.

The Department is modifying the section entitled “ADMINISTRATIVE, TECHNICAL, AND PHYSICAL SAFEGUARDS” as follows:

(i) In the first paragraph, the Department removed the reference to Appendix II, which is being separately deleted, in its entirety, from this modified system of records notice;

(ii) In the second paragraph, the Department updated the reference to its Administrative Communications Directive and clarified that its requirements to undergo a security clearance investigation apply to contract personnel who have facility access and system access;

(iii) In the third paragraph, the Department removed the reference to OMB Circular No. A-130, Appendix III, because OMB Circular No. A-130 no longer contains an Appendix III;

(iv) In the fourth paragraph, the Department deleted and replaced “FSA Information Security and Privacy Policy” with “Standard PR.AC: Password Parameters Policy;”

(v) The Department included, in new fifth and sixth paragraphs, information on requirements under the Federal Information Security Management Act of 2002 (FISMA), as amended by the Federal Information Security Modernization Act of 2014, to clarify that the Department system must receive a signed Authorization to Operate (ATO) and to provide a more detailed explanation of controls; and

(vi) In the final paragraph, the Department is updating the reference to additional system locations given that Appendix II is being separately deleted, in its entirety, from this system of records notice; and deleting the reference to “additional physical security measures” being in place.

The Department is removing APPENDIX I entitled “COMPUTER MATCHING PROGRAMS IN WHICH THE DEPARTMENT CURRENTLY ENGAGES OR HAS RECENTLY ENGAGED WITH RESPECT TO THIS SYSTEM” because the information that the Department receives from matching programs has been generally described in the section of the notice entitled “CATEGORIES OF RECORDS” and a separate appendix is not required by the Privacy Act or OMB and is not included in the Department's other systems of records notices.

The Department is removing APPENDIX II entitled “ADDITIONAL SYSTEM LOCATIONS.” As part of removing Appendix II, the Department has made the following modifications:

(i) From the subsection entitled “The Department and its Contractors,” the Department's locations have been moved to the “SYSTEM LOCATION” section, as described in greater detail in the above discussion of modifications thereto; and the PHEAA and Nelnet Servicing LLC locations have been deleted, as they were already, and continued to be, set forth in the “SYSTEM LOCATION” section;

(ii) From the subsection entitled “Maximus Federal Services, Inc.,” the Reston, VA, Westminster, CO, Waldorf, MD, Coralville, IA, Jacksonville, FL, and Utica, NY, locations have been deleted, and the remaining Maximus locations have been moved to the “SYSTEM LOCATION” section, as described in greater detail in the above discussion of modifications thereto;

(iii) From the subsection entitled “Not-For-Profit (NFP) Servicers:” (a) for MOHELA, the Chesterfield, MO, and Sterling Forest, NY, locations have been moved to, and the Columbia, MO, location has been moved to, and its address updated in, the “SYSTEM LOCATION” section; and the Harrisburg, PA, location has been deleted; (b) for NFPOSLA, the Scottsdale, AZ, Bellevue, NE, and Sioux Falls, SD, locations have been moved to, and one of its Oklahoma City, OK, locations (namely, 525 Central Park Drive) has been moved to, and its address updated in, the “SYSTEM LOCATION” section, and the locations at Stafford, TX, and Omaha, NE, and one of the Oklahoma City, OK, locations (namely, 11300 Partnership Drive) has been deleted; and (c) the following NFP Federal Loan Servicers have been deleted because they no longer service loans for the Department: Education Servicers of America, Inc. (ESA)/Edfinancial; Utah Higher Education Assistance Authority (UHEAA)/Cornerstone Education Loan Services, Vermont Student Assistance Corporation (VSAC), ISL Service Corporation/Aspire Resources Inc., New Hampshire Higher Education Loan Corporation (NHHELCO)/Granite State Management & Resources (GSM&R), South Carolina Student Loan Corporation, Tru Student, Inc., Kentucky Higher Education Student Loan Corporation (KHESLC), College Foundation, Inc., Council for South Texas Economic Progress (COSTEP), Georgia Student Finance Authority, New Mexico Educational Assistance Foundation, and Connecticut (Campus Partners); and

(iv) From the subsection entitled “Private Collection Agencies (PCAs),” Immediate Credit Recovery (ICR) and Coast Professional have been moved to the “SYSTEM LOCATION” section with updated addresses in Poughkeepsie, NY, and Geneseo, NY, respectively; the Nation Recoveries' Ham Lake, MN, location has been moved to the “SYSTEM LOCATION” section; and the following PCAs have been deleted because they no longer contract with the Department: Collecto, Inc., GC Services, Allied Interstate, The CBE Group, Inc., Diversified Collection Service, Financial Asset Management Systems, Inc., NCO Financial Systems, Inc., Pioneer Credit Recovery, Inc., Account Control Technology, Inc., Van Ru Credit Corporation, Progressive Financial Services, West Asset Management Enterprises, Inc., Premiere Credit of North America, ConServe, Financial Management Systems, Collection Technology, Inc., Enterprise Recovery Systems, Inc., Windham Professionals, Inc., and Delta Management Associates, Inc.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Richard Cordray,
Chief Operating Officer, Federal Student Aid.

For the reasons discussed in the preamble, the Chief Operating Officer, Federal Student Aid (FSA), U.S. Department of Education (Department), publishes a notice of a modified system of records to read as follows:

SYSTEM NAME AND NUMBER:

Common Services for Borrowers (CSB) (18-11-16).

SECURITY CLASSIFICATION:

Unclassified.

SYSTEM LOCATION:

(1) U.S. Department of Education:

Executive Director, Servicing, Student Experience and Aid Delivery, Federal Student Aid, U.S. Department of Education, 1300 Market St., 5th Floor, Philadelphia, PA 19107 (System Manager);

50 Beale St., San Francisco, CA 94105;

500 West Madison St., Chicago, IL 60661; and

61 Forsyth St., Atlanta, GA 30303.

(2) Maximus Federal Services, Inc. (Contractor—Federal Loan Servicer for Collections—Debt Management Collection System (DMCS)):

5202 Presidents Ct., Frederick, MD 21703 (Department contractor—DMCS Program Management and Help Desk);

Amazon Web Services Government Cloud, US East, 410 Terry Ave. North, Seattle, WA 98109-5210 (System Hosting);

Mail Fulfillment and Imaging Center(s): 800 Commerce Dr., Upper Marlboro, MD 20774; and 6201 Interstate 30, Greenville, TX 75402; and

Contact Centers: 1 Imeson Park Blvd., Suite 300, Jacksonville, FL 32218; and 4335 Paredes Line Rd., Brownsville, TX 78526.

(3) Nelnet Servicing, LLC (Contractor—Federal Loan Servicer):

1001 Fort Crook Rd. North, Suite 132, Bellevue, NE 68005 (System Hosting);

700 East 54th St. North, Suite 200, Sioux Falls, SD 57104 (Backup site);

Mail Fulfillment and Imaging Center: 1720 Northway Dr., North Mankato, MN 56003; 3125 Lewis Centre Way, Grove City, OH 43123; 3885 Seaport Blvd., Suite 40, West Sacramento, CA 95691; and 1803 Rocky River Rd., North Monroe, NC 28110; and

Contact Center(s): 3015 South Parker Rd., Aurora, CO 80014; 121 South 13th St., Lincoln, NE 68508; and 4501 Abbott Dr., #2300, Omaha, NE 68110.

(4) Great Lakes Educational Loan Services, Inc. (GLCS) (Contractor—Federal Loan Servicer):

1001 Fort Crook Road North, Suite 132, Bellevue, NE 68005 (System Hosting);

700 East 54th St. North, Suite 200, Sioux Falls, SD 57104 (Backup site);

Mail Fulfillment and Imaging Center: 2401 and 2501 International Lane, Madison, WI 53704; and 1529 Continental Dr., Eau Claire, WI 54701; and

Contact Center(s): 930 Blue Gentian Rd., Eagan, MN 55121; 6500 International Pkwy, Plano, TX 75093; 2401 and 2501 International Lane, Madison, WI 53704; 1529 Continental Dr., Eau Claire, WI 54701; 308 2nd St., Boscobel, WI 53805; and 1101 Center Point Dr., Stevens Point, WI 54481.

(5) Aidvantage (Contractor—Federal Loan Servicer):

Chandler Data Center, 240 North Roosevelt Ave., Chandler, AZ 48226 (System Hosting);

Omaha Data Center, 7305 Pacific St., Omaha, NE 68106 (Secondary/Backup site);

Mail Fulfillment and Imaging Center(s): 3885 Seaport Blvd., #40, West Sacramento, CA 95691; 1803 North Rocky River Rd., #7961, Monroe, NC 28110; and 220 Lasley Ave., Wilkes-Barre, PA 18706; and

Contact Center(s): 11100 USA Parkway, Fishers, IN 46037; 220 Lasley Ave., Wilkes-Barre, PA 18706; and 4501 North Superior Dr., Muncie, IN 47303.

(6) Pennsylvania Higher Education Assistance Agency (PHEAA)(Contractor—Federal Loan Servicer):

1137 Branchton Rd., Boyers, PA 16020 (System Hosting);

1200 North 7th St., Harrisburg, PA 17102-1419 (Mail Fulfillment and Imaging);

Contact Center(s): 1 Imeson Park Blvd., Jacksonville, FL 32218; 4335 Paredes Line Rd., Brownsville, TX 78526; 6700 Lakeview Center Dr., Tampa, FL 33619; 2763 Southwest Blvd., San Angelo, TX 76904; and

300 Long Meadow Rd., Suite 200, Sterling Forest, NY 10979 (Disaster Recover Facility).

(7) Missouri Higher Education Loan Assistance Authority (MOHELA) (Contractor—Not-for-Profit (NFP) Federal Loan Servicer):

633 Spirit Dr., Chesterfield, MO 63005 (System Hosting);

555 Vandiver Dr., Columbia, MO 65202 (Backup site);

1137 Branchton Rd., Boyers, PA 16020;

300 Long Meadow Rd., Suite 200, Sterling Forest, NY 10979 (Secondary Site);

Mail Fulfillment and Imaging ail Fulfillment and Imaging Center(s): 633 Spirit Dr., Chesterfield, MO 63005; and 555 Vandiver Dr., Columbia, MO 65202; and

Contact Center(s): 633 Spirit Dr., Chesterfield, MO 63005; 555 Vandiver Dr., Columbia, MO 65202; and 820 First St. NE, Suite L-120, Washington, DC 20002.

(8) Oklahoma Student Loan Authority (NFPOSLA) (Contractor—NFP Federal Loan Servicer):

525 Central Park Dr., Ste. 600, Oklahoma City, OK 73105 (System Hosting);

7499 East Paradise Lane, Scottsdale, AZ 85260 (Backup site);

1001 Fort Crook Road. North, Suite 132, Bellevue, NE. 68005-4247;

700 East 54th St. North, Suite 200, Sioux Falls, SD 57104;

Mail Fulfillment and Imaging Center(s): 525 Central Park Dr., Ste. 600, Oklahoma City, OK 73105; and

Call Center(s): 525 Central Park Dr., Ste. 600, Oklahoma City, OK 73105.

(9) North Texas Higher Education Servicing Corp. (NFPHESC—EdFinancial) (Contractor—NFP Federal Loan Servicer):

1001 Fort Crook Rd., Suite 132, North Bellevue, NE 68005-4247 (System Hosting);

700 East 54th St. North, Suite 200, Sioux Falls, SD 57104;

Mail Fulfillment and Imaging Center(s): 13271 North Promenade Blvd., Stafford, TX 77477-3957; and

Contact Center(s): 120 North Seven Oaks Dr., Knoxville, TN 37922; and 298 North Seven Oaks Dr., Knoxville, TN 37922.

(10) Educational Computer Systems, Inc. (ECSI) (Contractor—Federal Perkins Loan Servicer):

1033 Jefferson St. NW, Atlanta, GA 30318 (System Hosting);

Mail Fulfillment and Imaging Center(s): 100 Global View Dr., Warrendale, PA 15086; and

Contact Center(s): 1200 Cherrington Parkway, Suite 200, Moon Township, PA 15108; and 3330 Healy Dr., Winston-Salem, NC 27103.

(11) Action Financial Services (Contractor—Private Collection Agency):

2055 Cardinal Ave., Medford, OR 97504 (Call Center, Administrative Support, Compliance, Training and Human Resources).

(12) Bass & Associates, P.C. (Contractor—Private Collection Agency):

3926 E Fort Lowell Rd., Tucson, AZ 85712-1083 (Administration and Student Loan Collections).

(13) Central Research, Inc. (CRI) (Contractor—Private Collection Agency):

122 N Bloomington St., Suite I, Lowell, AR 72745 (Accounting/Corporate Administration).

(14) Coast Professional, Inc (Contractor—Private Collection Agency):

4273 Volunteer Rd., Geneseo, NY 14454 (Student Loan Servicing & Collecting).

(15) Credit Adjustments, Inc. (CAI) (Contractor—Private Collection Agency):

1270 Geneva Blvd. Defiance, OH 43512 (Collection Activity, Administrative Offices).

(16) F.H. Cann & Associates, Inc. (Contractor—Private Collection Agency):

1600 Osgood St., Suite 2-120, North Andover, MA 01845 (Collection Activity, Administrative Office).

(17) Immediate Credit Recovery (ICR) (Contractor—Private Collection Agency):

6 Neptune Rd., Suite 110, Poughkeepsie, NY 12601 (Call Center, Rehab Payer Service and Maintenance, Compliance, IT Staff, HR, Accounting, CEO, CIO, VP admin and other executive staff).

(18) National Credit Services (Contractor—Private Collection Agency):

2525 220th St. SE, Suite 200, Bothell, WA 98021 (Debt Collection, Rehabilitations, Skip Tracing, QA, Compliance, HR and Administrative Wage Garnishment (AWG)).

(19) National Recoveries Inc. (Contractor—Private Collection Agency):

14735 Hwy 65, NE, Ham Lake, MN 55304 (Collections, Invoice Processing, IT).

(20) Professional Bureau of Collections of Maryland, Inc. (Contractor—Private Collection Agency):

5295 DTC Parkway, Greenwood Village, CO 80111 (Executive, Administrative, Accounting, Collections, IT and Compliance).

(21) Reliant Capital Solutions (Contractor—Private Collection Agency):

670 Cross Pointe Rd., Gahanna, OH 43230 (Front Line Agents and Administrative Office).

SYSTEM MANAGER(S):

Executive Director, Servicing, Student Experience and Aid Delivery, Federal Student Aid, U.S. Department of Education, 1300 Market St., 5th Floor, Philadelphia, PA 19107.

AUTHORITY FOR MAINTENANCE OF THE SYSTEM:

Titles IV-A, IV-B, IV-D, and IV-E of the Higher Education Act (HEA) of 1965, as amended (20 U.S.C. 1070 et seq.) and the Higher Education Relief Opportunities for Students Act of 2003 (20 U.S.C. 1098bb) (including any waivers or modifications that the Secretary of Education deems necessary to make to any statutory or regulatory provision applicable to the student financial assistance programs under title IV of the HEA to achieve specific purposes listed in the section in connection with a war, other military operation, or a national emergency).

PURPOSE(S) OF THE SYSTEM:

Note: Different parts of the HEA use the terms “discharge”, “cancellation” or “forgiveness” to describe when a borrower's loan amount is reduced in whole or in part by the Department. To reduce complexity, this system of records notice uses the term “discharge” to include all three terms (“discharge”, “cancellation” and “forgiveness”), including but not limited to discharges of student loans made pursuant to specific benefit programs. At times, this system of records notice may refer by name to a specific benefit program, such as the “Public Service Loan Forgiveness” program; such specific references are not intended to exclude any such program benefits from more general references to loan discharges.

The information maintained in this system of records is used for the following purposes:

(1) To verify the identity of an individual;

(2) To determine program eligibility and benefits;

(3) To facilitate default reduction efforts by program participants;

(4) To enforce the conditions or terms of a title IV, HEA obligation;

(5) To originate, disburse, service, collect, assign, adjust, transfer, refer, furnish credit information for, and discharge a title IV, HEA obligation;

(6) To provide customers with information to help them make informed decisions on repayment options, including forbearance, deferment, and recurring debit options, based on their unique situations;

(7) To investigate possible fraud or abuse or verify compliance with program regulations or contract requirements;

(8) To locate a delinquent or defaulted individual obligated to repay a title IV, HEA obligation;

(9) To litigate a title IV, HEA obligation, or to prepare for, provide support services for, or audit the results of litigation on a title IV, HEA obligation;

(10) To prepare for, conduct, or enforce a limitation, suspension, termination, or debarment action;

(11) To verify that Federal, state, local, or Tribal statutory, regulatory, and program requirements are met by educational and financial institutions, guaranty agencies, and Department contractors including Federal Loan Servicers, NFP Federal Loan Servicers, the Federal Perkins Loan Servicer, and Private Collection Agencies (PCAs);

(12) To verify whether a title IV, HEA obligation qualifies for discharge;

(13) To conduct credit checks or respond to inquiries or disputes arising from information on the title IV, HEA obligation already furnished to a consumer reporting agency;

(14) To investigate, respond to, or resolve complaints submitted to the Department or to other Federal, State, local, or Tribal agencies regarding an aid applicant's or recipient's title IV, HEA program eligibility, the disbursement, or servicing of a title IV, HEA obligation, or the practices or processes of the Department and/or the Department's contractors;

(15) To determine credit balances to be refunded by the U.S. Department of the Treasury (Treasury) to the individual or loan holder;

(16) To allow educational institutions, financial institutions, Federal Loan Servicers, NFP Federal Loan Servicers the Federal Perkins Loan Servicer, PCAs, and guaranty agencies to report information to the Department on all aspects of title IV, HEA obligations in uniform formats to permit the Department directly to compare data submitted to the Department by individual educational institutions, financial institutions, third-party servicers, guaranty agencies, Federal Loan Servicers, NFP Federal Loan Servicers the Federal Perkins Loan Servicer, or PCAs;

(17) To report to the Internal Revenue Service (IRS) information required by law to be reported, including, but not limited to, reports required by 26 U.S.C. 6050P and 6050S;

(18) To support research, analysis, and development of educational policies in relation to title IV, HEA student aid programs;

(19) To support Federal budget analysts in the Department, the Office of Management and Budget (OMB), and the Congressional Budget Office (CBO) in the development of budget needs and forecasts;

(20) To help governmental entities at the Federal, State, Tribal, and local levels to exercise their supervisory and administrative powers (including, but not limited to licensure, examination, discipline, regulation, or oversight of educational institutions, Department contractors, guaranty agencies, eligible lenders, and third-party servicers); to investigate, respond to, or resolve complaints regarding the practices or processes of the Department and/or the Department's contractors; and to update information or correct errors contained in Department records;

(21) To ensure that only authorized users access aid applicants' or recipients' records, to maintain a history of each instance in which the aid applicant's or recipient's records are viewed or updated, and to assist the Department in responding to a suspected or confirmed breach of this system or in preventing, minimizing, or remedying harm when the Department suspects or confirms that this system has been breached or when the Department determines that information from this system is reasonably necessary to assist another agency or entity in responding to a suspected or confirmed breach or in preventing, minimizing, or remedying the risk of harm resulting from a suspected or confirmed breach;

(22) To support the Department in detecting, preventing, mitigating, and recouping improper payments in title IV, HEA programs; and

(23) To conduct testing, analysis, or take other administrative actions needed to prepare for or execute programs under title IV of the HEA.

CATEGORIES OF INDIVIDUALS COVERED BY THE SYSTEM:

The CSB system contains records on individuals who received a loan or who otherwise owe a title IV, HEA obligation held, originated, serviced, disbursed, adjusted, collected, or discharged by the Department, which was made under:

(1) The Federal Family Education Loan (FFEL) Program, including Stafford Loans, Federal Insured Student Loans (FISL), Supplemental Loans for Students (SLS), PLUS Loans (formerly Parental Loans for Undergraduate Students), and Consolidation Loans;

(2) the William D. Ford Federal Direct Loan (Direct Loan) Program, including Federal Direct Unsubsidized and Subsidized Stafford/Ford Loans, Federal Direct Consolidation Loans, and Federal Direct PLUS Loans;

(3) the Federal Perkins Loan Program;

(4) the Federal Pell Grant Program;

(5) the Federal Supplemental Education Opportunity Grant (FSEOG) Program;

(6) the Leveraging Educational Assistance Partnership (LEAP) Program;

(7) the Special Leveraging Educational Assistance Partnership (SLEAP) Program;

(8) the Academic Competitiveness Grant (ACG) Program;

(9) the National Science and Mathematics Access to Retain Talent (SMART) Grant Program;

(10) the Teacher Education Assistance for College and Higher Education (TEACH) Grant Program; and

(11) the Iraq and Afghanistan Service Grant Program.

This system also contains records on individuals who apply for, but do not receive, a Direct Loan, as well as individuals identified by the borrower or recipient of the Federal title IV, HEA program funds as references, co-signers, endorsers, or a spouse whose income and expenses are considered in connection with the making or the enforcement of a title IV, HEA obligation.

CATEGORIES OF RECORDS IN THE SYSTEM:

This system of records covers the following Information Technology (IT) systems of the Department used to carry out activities with regard to title IV, HEA obligations held, originated, serviced, disbursed, collected, or discharged by the Department: DMCS, IT systems operated by the Federal Loan Servicers and NFP Federal Loan Servicers to accomplish the purpose(s) of this system of records, IT systems operated by the Federal Perkins Loan Program Servicer to accomplish the purpose(s) of this system of records, and IT systems operated by the PCAs to accomplish the purpose(s) of this system of records. This system of records also covers paper records obtained by the Department from guaranty agencies in the process of considering appeals by title IV, HEA loan borrowers of guaranty agency decisions.

This system of records maintains the employment information, educational status, family income, Social Security number (SSN), address(es), email address(es), and telephone number(s) of the aid applicant or recipient indebted on a title IV, HEA obligation or the individuals whose income and expenses are included in a financial statement submitted by the aid applicant or recipient. This system of records maintains the loan discharge income eligibility information and associated discharge eligibility consent information of the aid recipient indebted on a title IV, HEA obligation. This system also maintains records including, but not limited to, the application for, agreement to repay, and disbursements on the loan, and loan guaranty, if any; the repayment history, including deferments and forbearances; claims by lenders on the loan guaranty; and records related to discharge of title IV, HEA obligations on grounds of qualifying service, bankruptcy discharge, Total and Permanent Disability (including medical records submitted to support application for discharge by reason of disability), death, Public Service Loan Forgiveness (PSLF) (including, but not limited to, employment records), Borrower Defense (including but not limited to, case decisions, principal and interest discharged, amount refunded, and borrower defense notifications) or other statutory or regulatory grounds for relief.

Additionally, for title IV, HEA grant overpayments, the system contains records about the amount disbursed, the school that disbursed the grant, and the basis for overpayment; for all title IV, HEA obligations, the system contains demographic, employment, and other data on the individual who owes a title IV, HEA obligation or provided as references by the obligor, and the collection actions taken by any holder, including write-off amounts and compromise amounts.

This system also contains information obtained from matching programs or other information exchanges with other Federal and State agencies, and other entities, to assist in identifying individuals who may be eligible for benefits related to their title IV, HEA obligations, including, but not limited to, TPD discharges, loan deferments, interest rate reductions, PSLF, and other Federal and State loan repayment or discharge benefits or for the purpose of recouping payments on delinquent title IV, HEA obligations under title IV, HEA programs.

RECORD SOURCE CATEGORIES:

The system includes information that the Department obtains from applicants and those individuals and their families who received, or who are otherwise obligated to repay, a title IV, HEA obligation held and collected by the Department. The Department also obtains information from Federal Loan Servicers, NFP Federal Loan Servicers, the Federal Perkins Loan Servicer, PCAs, references, cosigners, endorsers, current or prior FFEL loan holders or servicers, guaranty agencies, educational and financial institutions and their authorized representatives, and Federal, State, Tribal and local agencies and their authorized representatives; private parties, such as relatives and business and personal associates; present and former employers; creditors; consumer reporting agencies; and adjudicative bodies. Information in this system may be obtained from other persons or entities from whom or from which data is obtained following a disclosure under the listed routine uses.

ROUTINE USES OF RECORDS MAINTAINED IN THE SYSTEM, INCLUDING CATEGORIES OF USERS AND PURPOSES OF SUCH USES:

The Department may disclose information contained in a record in this system of records under the routine uses listed in this system of records without the consent of the individual if the disclosure is compatible with the purposes for which the information in the record was collected. These disclosures may be made on a case-by-case basis, or, if the Department has complied with the computer matching requirements of the Privacy Act of 1974, as amended (Privacy Act), under a computer matching agreement.

(1) Program Disclosures. The Department may disclose records for the following program purposes:

(a) To verify the identity of the individual whom records indicate has applied for or received title IV, HEA program funds, disclosures may be made to guaranty agencies, educational and financial institutions, and their authorized representatives; to Federal, State, Tribal, or local agencies, and their authorized representatives; to private parties, such as relatives, business and personal associates, and present and former employers; to creditors; to consumer reporting agencies; to adjudicative bodies; and to the individual whom the records identify as the party obligated to repay the title IV, HEA obligation;

(b) To determine program eligibility and benefits, disclosures may be made to guaranty agencies, educational and financial institutions, and their authorized representatives; to Federal, State, or local agencies, and their authorized representatives; to private parties, such as relatives, business and personal associates, and present and former employers; to creditors; to consumer reporting agencies; and to adjudicative bodies;

(c) To facilitate default reduction efforts by program participants, disclosures may be made to guaranty agencies, educational and financial institutions, and their authorized representatives; to Federal, State, or local agencies, and their authorized representatives; to consumer reporting agencies; and to adjudicative bodies;

(d) To enforce the conditions or terms of a title IV, HEA obligation, disclosures may be made to guaranty agencies, educational and financial institutions, and their authorized representatives; to Federal, State, or local agencies, and their authorized representatives; to private parties, such as relatives, business and personal associates, and present and former employers; to creditors; to consumer reporting agencies; to adjudicative bodies; and to the individual whom the records identify as the party obligated to repay the title IV, HEA obligation;

(e) To permit originating, disbursing, servicing, collecting, assigning, adjusting, transferring, referring, furnishing of credit information, or discharging title IV, HEA obligations, disclosures may be made to guaranty agencies, educational institutions, or financial institutions that originated, held, serviced, or have been assigned the title IV, HEA obligation, and their authorized representatives; to a party identified by the debtor as willing to advance funds to repay the title IV, HEA obligation; to Federal, State, or local agencies, and their authorized representatives; to private parties, such as relatives, business and personal associates, and present and former employers; to creditors; to consumer reporting agencies; and to adjudicative bodies;

(f) To provide customers with information to help them make informed decisions on repayment options, including deferment, forbearance, and recurring auto debit, based on their unique situations, disclosures may be made to guaranty agencies, educational and financial institutions, and their authorized representatives; and to Federal, State, or local agencies, and their authorized representatives;

(g) To investigate possible fraud or abuse or to verify compliance with contractual requirements or Federal, State, local, or Tribal statutory, regulatory, or program requirements, disclosures may be made to guaranty agencies, educational and financial institutions, third-party servicers, and their authorized representatives; to Federal, State, Tribal, or local agencies, and their authorized representatives; to private parties, such as relatives, present and former employers, and business and personal associates; to creditors; to consumer reporting agencies; and to adjudicative bodies;

(h) To locate a delinquent or defaulted borrower, or an individual who owes a title IV, HEA obligation, disclosures may be made to guaranty agencies, educational and financial institutions, and their authorized representatives; to Federal, State, or local agencies, and their authorized representatives; to private parties, such as relatives, business and personal associates, and present and former employers; to creditors; to consumer reporting agencies; and to adjudicative bodies;

(i) To prepare a title IV, HEA obligation for litigation, to provide support services for litigation on a title IV, HEA obligation, to litigate a title IV, HEA obligation, or to audit the results of litigation on a title IV, HEA obligation, disclosures may be made to FFEL loan holders or servicers; Department contractors including but not limited to, Federal Loan Servicers, NFP Federal Loan Servicers, the Federal Perkins Servicer, PCAs and to guaranty agencies and their authorized representatives; Federal, State, Tribal, or local agencies, and their authorized representatives; and to adjudicative bodies;

(j) To prepare for, conduct, or enforce a limitation, suspension, or termination or a debarment action, disclosures may be made to guaranty agencies, educational or financial institutions, and their authorized representatives; to Federal, State, or local agencies, and their authorized representatives; and to adjudicative bodies;

(k) To verify that HEA program requirements are met by educational and financial institutions, guaranty agencies, Federal Loan Servicers, NFP Federal Loan Servicers, the Federal Perkins Loan Servicer, and PCAs, disclosures may be made to guaranty agencies, educational or financial institutions, and their authorized representatives; to accrediting agencies; to auditors engaged to conduct an audit of a guaranty agency or an educational or financial institution; to Federal, State, Tribal, or local agencies, and their authorized representatives; and to adjudicative bodies;

(l) To verify whether a title IV, HEA obligation qualifies for discharge disclosures may be made to guaranty agencies, educational and financial institutions, and their authorized representatives; to Federal, State, or local agencies, and their authorized representatives; to private parties, such as relatives, present and former employers, and business and personal associates; to creditors; to consumer reporting agencies; and to adjudicative bodies;

(m) To conduct credit checks or to respond to inquiries or disputes arising from information on the title IV, HEA obligation already furnished to a consumer reporting agency, disclosures may be made to consumer reporting agencies; to guaranty agencies, educational and financial institutions, and their authorized representatives; to Federal, State, or local agencies, and their authorized representatives; to private parties, such as relatives, present and former employers, and business and personal associates; to creditors; and to adjudicative bodies;

(n) To investigate, respond to, and resolve complaints submitted to the Department or to Federal, State, local, or Tribal agencies regarding an aid applicant's or recipient's title IV, HEA program eligibility, the disbursement or servicing of a title IV, HEA obligation, or the practices or processes of the Department and/or the Department's contractors or to update information or correct errors contained in Department records, disclosures may be made to guaranty agencies, educational and financial institutions, and their authorized representatives; to Federal, State, Tribal, or local agencies, and their authorized representatives; to private parties, such as relatives, present and former employers, and business and personal associates; to creditors; to consumer reporting agencies; and to adjudicative bodies;

(o) To provide credit balances identified in the Department's systems to Treasury for distribution, disclosures may be made to guaranty agencies, educational and financial institutions, and their authorized representatives; to Federal, State, or local agencies, and their authorized representatives; to private parties, such as relatives, present and former employers, and business and personal associates; and to creditors;

(p) To allow the reporting of information to the Department on all aspects of title IV, HEA obligations in uniform formats and to permit the Department to directly compare data submitted to the Department by individual educational institutions, financial institutions, third-party servicers, guaranty agencies, Federal Loan Servicers, NFP Federal Loan Servicers, PCAs, and the Federal Perkins Loan Servicer, disclosures may be made to educational institutions, financial institutions, guaranty agencies, Federal Loan Servicers, the Federal Perkins Loan Servicer, NFP Federal Loan Servicers, and PCAs;

(q) To report information required by law to be reported, including, but not limited to, reports required by 26 U.S.C. 6050P and 6050S, disclosures may be made to the IRS; and;

(r) To help Federal, State, Tribal, and local governmental entities exercise their supervisory and administrative powers (including, but not limited to, licensure, examination, discipline, regulation, or oversight of educational institutions, Department contractors, guaranty agencies, eligible lenders, and third-party servicers) or to investigate, respond to, or resolve complaints submitted regarding the practices or processes of the Department and/or the Department's contractors, the Department may disclose records to governmental entities at the Federal, State, Tribal, and local levels. These records may include all aspects of records relating to title IV, HEA obligations to permit these governmental entities to verify compliance with debt collection, consumer protection, financial, and other applicable statutory, regulatory, or local requirements. Before making a disclosure to these Federal, State, local, or Tribal governmental entities, the Department will require them to maintain safeguards consistent with the Privacy Act to protect the security and confidentiality of the disclosed records.

(2) Feasibility Study Disclosure. The Department may disclose information from this system of records to other Federal agencies, and to guaranty agencies and to their authorized representatives, to determine whether matching programs should be conducted by the Department for purposes such as to locate a delinquent or defaulted debtor or to verify compliance with program regulations.

(3) Enforcement Disclosure. In the event that information in this system of records indicates, either alone or in connection with other information, a violation or potential violation of any applicable statutory, regulatory, or legally binding requirement, the Department may disclose the relevant records to an entity charged with the responsibility for investigating or enforcing those violations or potential violations.

(4) Litigation and Alternative Dispute Resolution (ADR) Disclosure.

(a) Introduction. In the event that one of the parties listed below is involved in judicial or administrative litigation or ADR, or has an interest in such litigation or ADR, the Department may disclose certain records to the parties described in paragraphs (b), (c), and (d) of this routine use under the conditions specified in those paragraphs:

(i) The Department or any of its components;

(ii) Any Department employee in his or her official capacity;

(iii) Any Department employee in his or her individual capacity where the Department of Justice (DOJ) has been requested to or agrees to provide or arrange for representation for the employee;

(iv) Any Department employee in his or her individual capacity where the Department has agreed to represent the employee; and

(v) The United States, where the Department determines that the litigation is likely to affect the Department or any of its components.

(b) Disclosure to the DOJ. If the Department determines that disclosure of certain records to the DOJ is relevant and necessary to the judicial or administrative litigation or ADR, the Department may disclose those records as a routine use to the DOJ.

(c) Adjudicative Disclosure. If the Department determines that disclosure of certain records to an adjudicative body before which the Department is authorized to appear or to an individual or an entity designated by the Department or otherwise empowered to resolve or mediate disputes is relevant and necessary to the judicial or administrative litigation or ADR, the Department may disclose those records as a routine use to the adjudicative body, individual, or entity.

(d) Parties, Counsel, Representatives, and Witnesses. If the Department determines that disclosure of certain records to a party, counsel, representative, or witness is relevant and necessary to the judicial or administrative litigation or ADR, the Department may disclose those records as a routine use to the party, counsel, representative, or witness.

(5) Employment, Benefit, and Contracting Disclosure.

(a) For Decisions by the Department. The Department may disclose a record to a Federal, State, or local agency maintaining civil, criminal, or other relevant enforcement or other pertinent records, or to another public authority or professional organization, if necessary to obtain information relevant to a Department decision concerning the hiring or retention of an employee or other personnel action, the issuance of a security clearance, the letting of a contract, or the issuance of a license, grant, or other benefit.

(b) For Decisions by Other Public Agencies or their Agents and Contractors, and Professional Organizations or the Department's Contractors. The Department may disclose a records to a Federal, State, local, or other public authority or an agent or contractor of such public agency, or professional organization, or the Department's contractors in connection with the hiring or retention of an employee or other personnel action, the issuance of a security clearance, the reporting of an investigation of an employee, the letting of a contract, or the issuance of a license, grant, or other benefit, to the extent that the record is relevant and necessary to the receiving entity's decision on the matter.

(6) Employee Grievance, Complaint, or Conduct Disclosure. If a record is relevant and necessary to an employee grievance, complaint, or disciplinary action, the Department may disclose the record in this system of records in the course of investigation, fact-finding, or adjudication to any witness, designated factfinder, mediator, or other person designated to resolve issues or decide the matter.

(7) Labor Organization Disclosure. The Department may disclose a record from this system of records to an arbitrator to resolve disputes under a negotiated grievance procedure or to officials of a labor organization recognized under 5 U.S.C. chapter 71 when relevant and necessary to their duties of exclusive representation.

(8) Freedom of Information Act (FOIA) and Privacy Act Advice Disclosure. The Department may disclose records to the DOJ or to OMB if the Department determines that disclosure is desirable or necessary in determining whether particular records are required to be disclosed under the FOIA or the Privacy Act.

(9) Disclosure to the DOJ. The Department may disclose records to the DOJ, or the authorized representative of DOJ, to the extent necessary for obtaining DOJ advice on any matter relevant to an audit, inspection, or other inquiry related to the programs covered by this system.

(10) Contracting Disclosure. If the Department contracts with an entity for the purposes of performing any function that requires disclosure of records in this system to employees of the contractor, the Department may disclose the records to those employees. Before entering into such a contract, the Department shall require the contractor to maintain Privacy Act safeguards as required under 5 U.S.C. 552a(m) of the Privacy Act with respect to the records in the system.

(11) Research Disclosure. The Department may disclose records to a researcher if the Department determines that the individual or organization to which the disclosure would be made is qualified to carry out specific research related to functions or purposes of this system of records. The Department may disclose records from this system of records to that researcher solely for the purpose of carrying out that research related to the functions or purposes of this system of records. The researcher shall be required to agree to establish and maintain safeguards to protect the security and confidentiality of the disclosed records.

(12) Congressional Member Disclosure. The Department may disclose the records of an individual to a member of Congress or the member's staff when necessary to respond to an inquiry from the member made at the written request of that individual and on behalf of that individual. The member's right to the information is no greater than the right of the individual who requested it.

(13) Disclosure to OMB or CBO for Credit Reform Act (CRA) Support. The Department may disclose records to OMB or CBO as necessary to fulfill CRA requirements in accordance with 2 U.S.C. 661b.

(14) Disclosure in the Course of Responding to a Breach of Data. The Department may disclose records from this system of records to appropriate agencies, entities, and persons when (a) the Department suspects or has confirmed that there has been a breach of the system of records; (b) the Department has determined that as a result of the suspected or confirmed breach there is a risk of harm to individuals, the Department (including its information systems, programs and operations), the Federal government, or national security; and (c) the disclosure made to such agencies, entities, and persons is reasonably necessary to assist in connection with the Department's efforts to respond to the suspected or confirmed breach and prevent, minimize, or remedy such harm.

(15) Disclosure in Assisting another Agency in Responding to a Breach of Data. The Department may disclose records from this system to another Federal agency or Federal entity, when the Department determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

(16) Disclosure to Third Parties through Matching Programs. Unless otherwise prohibited by other laws, any information from this system of records, including personal information obtained from other agencies through matching programs, may be disclosed to any third party through a matching program, which is conducted under a Computer Matching Agreement between the Department and the third party, and requires that the matching be conducted in compliance with the requirements of the Privacy Act. Purposes of these disclosures may be: (a) To establish or verify program eligibility and benefits; (b) to establish or verify compliance with program regulations or statutory requirements, such as to investigate possible fraud or abuse; and (c) to recoup payments or delinquent debts under any Federal benefit programs, such as to locate or take legal action against a delinquent or defaulted debtor.

(17) Disclosure of Information to Treasury. The Department may disclose records to (a) a Federal or State agency, its employees, agents (including contractors of its agents), or contractors, or (b) a fiscal or financial agent designated by the Treasury, including employees, agents, or contractors of such agent, for the purpose of identifying, preventing, or recouping improper payments to an applicant for, or recipient of, Federal funds, including funds disbursed by a State in a State-administered, Federally funded program.

(18) Disclosure to National Archives and Records Administration (NARA). The Department may disclose records from this system of records to NARA for the purpose of records management inspections conducted under authority of 44 U.S.C. 2904 and 2906.

DISCLOSURE TO CONSUMER REPORTING AGENCIES:

Disclosure pursuant to 5 U.S.C. 552a(b)(12): The Department may disclose to a consumer reporting agency information regarding a valid overdue claim of the Department; such information is limited to:

(1) The name, address, taxpayer identification number, and other information necessary to establish the identity of the individual responsible for the claim;

(2) the amount, status, and history of the claim; and

(3) the program under which the claim arose. The Department may disclose the information specified in this paragraph under 5 U.S.C. 552a(b)(12) and the procedures contained in 31 U.S.C. 3711(e). A consumer reporting agency to which these disclosures may be made is defined in 15 U.S.C. 1681a(f) and 31 U.S.C. 3701(a)(3).

POLICIES AND PRACTICES FOR STORAGE OF RECORDS:

The records are maintained in hardcopy, microfilm, magnetic storage, and optical storage media, such as tape, disk, etc.

POLICIES AND PRACTICES FOR RETRIEVAL OF RECORDS:

Records in this system pertaining to a title IV, HEA loan borrower or grant recipient are retrieved by one or more of the following data elements: the SSN, name, address, randomly generated number, debt number, phone number, debt type reference, debt type extension debt number, commercial name, commercial contact name, legacy ID, driver's license number, American Bankers Association (ABA) routing number, bankruptcy docket number, debt placement date, debt user defined page (UDP), email address, last worked date, payment additional extension reference ID, payment extension reference ID, tag short name, total balance, credit bureau legacy ID, debt type group short name, debt type short name, department name, institution account number, judgment docket number, license-issuing State, next scheduled payment amount, next scheduled payment date, office name, original debt type name, PCA group short name, and PCA short name.

POLICIES AND PRACTICES FOR RETENTION AND DISPOSAL OF RECORDS:

All records are retained and disposed of in accordance with ED Records Schedule 075: FSA Loan Servicing, Consolidation, and Collections Records (N1-441-09-016) (ED 075). The Department has submitted amendments to ED 075 for NARA's consideration and will continue to preserve all records covered by ED 075 until the amendments are approved.

ADMINISTRATIVE, TECHNICAL, AND PHYSICAL SAFEGUARDS:

All physical access to the Department's site, and to the sites of the Federal Loan Servicers, the Federal Perkins Loan Servicer, PCAs, and other contractors listed in this notice, where this system of records is maintained, is controlled and monitored by security personnel who check each individual entering the building for his or her employee or visitor badge.

In accordance with the Department's Administrative Communications System Directive ACSD-OFO-013 entitled “Contractor Employee Personnel Security Screenings,” all contract personnel who have facility access and system access are required to undergo a security clearance investigation. Individuals requiring access to Privacy Act records are required to hold, at a minimum, a moderate-risk security clearance level. These individuals are required to undergo periodic screening at five-year intervals.

In addition to conducting security clearances, contract and Department employees are required to complete security awareness training on an annual basis. Annual security awareness training is required to ensure that contract and Department users are appropriately trained in safeguarding Privacy Act records.

The computer system employed by the Department offers a high degree of resistance to tampering and circumvention. This security system limits data access to Department and contract staff on a “need-to-know” basis and controls individual users' ability to access and alter records within the system. All users of this system of records are given a unique user identification and password. The Department's Standard PR.AC: Password Parameters Policy requires the enforcement of a complex password policy. In addition to the enforcement of a complex password policy, users are required to change their password at least every 60 to 90 days in accordance with the Department's Information Technology standards.

In accordance with the Federal Information Security Management Act of 2002 (FISMA), as amended by the Federal Information Security Modernization Act of 2014, every Department system must receive a signed Authorization to Operate (ATO) from a designated Department official. The ATO process includes a rigorous assessment of security and privacy controls, a plan of actions and milestones to remediate any identified deficiencies, and a continuous monitoring program.

FISMA controls implemented comprise a combination of management, operational, and technical controls, and include the following control families: access control, awareness and training, audit and accountability, assessment, authorization, and monitoring, configuration management, contingency planning, identification and authentication, incident response, maintenance, media protection, physical and environmental protection, planning, program management, personnel security, personally identifiable information processing and transparency, risk assessment, system and services acquisition, system and communications protection, system and information integrity, and supply chain risk management.

All of the Federal Loan Servicers, NFP Federal Loan Servicers, the Federal Perkins Loan Servicer, PCAs and other contractors, as listed in “SYSTEM LOCATION,” undergo FISMA security authorizations. In addition, access is monitored 24 hours per day, 7 days a week.

RECORD ACCESS PROCEDURES:

If you wish to gain access to a record in this system, provide the system manager with your name, date of birth, and SSN. Requests by an individual for access to a record must meet the requirements of the regulations in 34 CFR 5b.5, including proof of identity.

CONTESTING RECORD PROCEDURE:

If you wish to contest the content of a record in this system of records, contact the system manager with your name, date of birth, and SSN; identify the specific items to be changed; and provide a written justification for the change. Requests to amend a record must meet the requirements of the regulations in 34 CFR 5b.7.

NOTIFICATION PROCEDURES:

If you wish to determine whether a record exists regarding you in this system of records, provide the system manager with your name, date of birth, and SSN. Requests must meet the requirements of the regulations in 34 CFR 5b.5 and 5b.7, including proof of identity.

EXEMPTIONS PROMULGATED FOR THE SYSTEM:

None.

HISTORY:

The system of records entitled “Common Services for Borrowers (CSB)” (18-11-16) was originally published in the Federal Register on January 23, 2006 (71 FR 3503-3507), modified on September 12, 2014 (79 FR 54685-54695), and was last modified on September 2, 2016 (81 FR 60683-60691).

[FR Doc. 2022-19887 Filed 9-12-22; 8:45 am]

BILLING CODE 4000-01-P